DEPARTMENT OF ENERGY

Federal Energy Regulatory Commission

[Project No. 10855-002, Michigan]

Upper Peninsula Power Company, Marquette Board of Light and PowerProject No. 2589-024, Michigan; Notice of Availability of Final Environmental Assessment

August 1, 2002.

In accordance with the National Environmental Policy Act of 1969 and the Federal Energy Regulatory Commission's (Commission) regulations contained in the Code of Federal Regulations, Part 380 (18 CFR part 380) [FERC Order No. 486, 52 FR 47897], the Office of Energy Projects Staff (Staff) has reviewed the application for an initial license for the Dead River Project and a new license for the Marquette Project, both located on the Dead River in Marquette County, Michigan, and has prepared a final environmental assessment (FEA) for the projects. In this FEA, the Staff has analyzed the potential environmental effects of the existing projects and has concluded that licensing the projects, with staff's recommended measures, would not constitute a major federal action significantly affecting the quality of the human environment.

Copies of the FEA are available for review in the Public Reference Branch, Room 2-A, of the Commission's offices at 888 First Street, NE., Washington, DC 20426. This FEA may also be viewed on the Internet at http://www.ferc.gov using the “RIMS” link; select “Docket#” and follow the instructions. Please call (202) 208-2222 for assistance.

Linwood A. Watson, Jr.,
Deputy Secretary.

[FR Doc. 02-19923 Filed 8-6-02; 8:45 am]

BILLING CODE 6717-01-P